FEDERAL MARITIME COMMISSION

Ocean Transportation Intermediary License Rescission of Order of Revocation

The Commission gives notice that it has rescinded its Order revoking the following Ocean Transportation Intermediary licenses pursuant to section 19 of the Shipping Act of 1984 (46 U.S.C. 40101).

License No.: 022408NF.

Name: Pactrans Global, LLC.

Address: 951 Thorndale Avenue, Bensenville, IL 60106.

Order Published: July 3, 2014.

(Volume 79, No. 128, Pg. 38028).

License No.: 13599NF.

Name: Pactrans Air & Sea, Inc.

Address: 951 Thorndale Avenue, Elk Grove Village, IL 60106.

Order Published: July 3, 2014.

(Volume 79, No. 128, Pg. 38028).

Sandra L. Kusumoto,
Director, Bureau of Certification and Licensing.

[FR Doc. 2014-16474 Filed 7-14-14; 8:45 am]

BILLING CODE 6730-01-P